DEPARTMENT OF THE TREASURY

Office of Thrift Supervision

[AC-26: OTS Nos. 05091 and H-4541]

Ocean Shore Holding Corporation, Ocean City, NJ; Approval of Conversion Application

Notice is hereby given that on November 12, 2008, the Office of Thrift Supervision approved the application of Ocean City Home Bank, Ocean City, New Jersey, to convert to the stock form of organization. Copies of the application are available for inspection by appointment (phone number: 202-906-5922 or e-mail Public.Info@OTS.Treaas.gov) at the Public Reading Room, 1700 G Street, NW., Washington, DC 20552, and the OTS Northeast Regional Office, 10 Exchange Place, 18th Floor, Jersey City, New Jersey 07302.

Dated: November 14, 2008.
By the Office of Thrift Supervision.
Sandra E. Evans,
Federal Register Liaison.

[FR Doc. E8-27647 Filed 11-21-08; 8:45 am]

BILLING CODE 6720-01-M